DEPARTMENT OF DEFENSE

Department of the Army

Board of Visitors, United States Military Academy (USMA)

Correction

In notice document 07-3000 beginning on page 33743 in the issue of Tuesday, June 19, 2007, make the following correction:

On page 33743, in the second column, under the Date heading, “Sunday” should read “Saturday”.

[FR Doc. C7-3000 Filed 6-26-07; 8:45 am]

BILLING CODE 1505-01-D

DEPARTMENT OF DEFENSE

Department of the Army; Corps of Engineers

Notice of Solicitation for Estuary Habitat Restoration Program

Correction

In notice document 07-3002 beginning on page 33743 in the issue of Tuesday, June 19, 2007, make the following corrections:

1. On page 33743, in the third column, under the ADDRESSES heading, in the second line, “http://www.usace.army.mil/cw/cecwp/estuary_act/index.htm” should read “http://www.usace.army.mil/cw/cecw-p/estuary_act/index.htm”.

2. On page 33744, in the first column, under the Introduction heading, in the first paragraph, in the nineteenth line, “http://www.usace.army.mil/cw/cecwp/estuary_act/index.htm” should read “http://www.usace.army.mil/cw/cecw-p/estuary_act/index.htm”.

3. On page 33747, in the third column, under the Project Selection and Notification heading, in the first paragraph, in the sixth line, “funds and reasonable” should read “funds and any reasonable”.

4. On page 33748, in the first column, under the Application Process heading, in the second line, “http://www.usace.army.mil/cw/cecwp/estuary_act/index.htm” should read “http://www.usace.army.mil/cw/cecw-p/estuary_act/index.htm”.

[FR Doc. C7-3002 Filed 6-26-07; 8:45 am]

BILLING CODE 1505-01-D

DEPARTMENT OF JUSTICE

Notice of Lodging of Consent Decree Under the Comprehensive Environmental Response, Compensation and Liability Act

Correction

In notice document 07-2932 appearing on page 32865 in the issue of Thursday, June 14, 2007, make the following corrections:

1. In the first column, in the first paragraph, in the fifth line, “MidAmerian” should read “MidAmerican”.

2. In the same column, in the same paragraph, in the tenth line, “degree” should read “decree”.

3. In the same column, in the same paragraph, in the fourth line from the bottom, “city” should read “City”.

4. In the same column, in the third paragraph, in the third line from the bottom, “covenant” should read “covenants”.

[FR Doc. C7-2932 Filed 6-26-07; 8:45 am]

BILLING CODE 1505-01-D

DEPARTMENT OF JUSTICE

Antitrust Division

Notice Pursuant to the National Cooperative Research and Protection Act of 1993—Advanced Energy Consortium

Correction

In notice document 07-2854 appearing on page 31855 in the issue of Friday, June 8, 2007, make the following corrections:

1. In the third column, in the first full paragraph, in the second line, “identifies” should read “identities”.

2. In the same column, in the same paragraph, in the 13th line, “wa” should read “was”.

[FR Doc. C7-2854 Filed 6-26-07; 8:45 am]

BILLING CODE 1505-01-D

OFFICE OF MANAGEMENT AND BUDGET

Office of Federal Procurement Policy

48 CFR Part 9903

Cost Accounting Standards Board (CAS) Changes to Acquisition Thresholds

Correction

In rule document E7-11328 beginning on page 32809 in the issue of Thursday, June 14, 2007, make the following correction:

9903.202-1 [Corrected]

On page 32812, in the third column, in 9903.202-1, in the seventh and eighth lines from the bottom of the page, amendatory instructions 8.A. and 8.B. are corrected to read as follows:

“A. Paragraph (c) introductory text;

B. The first sentence of paragraph (f)(2)(i); and”

[FR Doc. Z7-11328 Filed 6-26-07; 8:45 am]

BILLING CODE 1505-01-D

DEPARTMENT OF TRANSPORTATION

National Highway Traffic Safety Administration

49 CFR Part 571

[Docket No. NHTSA-2006-23882]

RIN 2127-AH34

Federal Motor Vehicle Safety Standards; Door Locks and Door Retention Components

Correction

Rule document 07-517 was inadvertently published in the Proposed Rules section of the issue of February 6, 2007, beginning on page 5385. It should have appeared in the Rules section.

[FR Doc. C7-517 Filed 6-26-07; 8:45 am]

BILLING CODE 1505-01-D